SURFACE TRANSPORTATION BOARD

[Docket No. AB 874 (Sub-No. 1X)]

Sierra Northern Railway—Abandonment Exemption—in Yolo County, Cal.

On March 19, 2020, Sierra Northern Railway (Sierra) filed with the Surface Transportation Board (Board) a petition under 49 U.S.C. 10502 for exemption from the prior approval requirements of 49 U.S.C. 10903 for Sierra to abandon approximately 0.70 miles of railroad line extending between approximately milepost 3.10 and approximately milepost 3.80, in Yolo County, Cal. (the Line). The Line traverses U.S. Postal Service Zip Code 95691.

The Line was acquired by Sierra (which was previously known as Yolo Shortline Railroad Company) from Union Pacific Railroad Company in 1992. (Pet., Ex. 8 at 19.) See Yolo Shortline R.R.—Purchase & Trackage Rights Exemption—Union Pac. R.R., FD 32107 (ICC served Aug. 11, 1992). According to Sierra, part of the Line sits atop the Sacramento Weir, which is an essential element in the City of Sacramento's flood control system. (Pet. 1.) ¹ Sierra proposes to abandon the Line because the U.S. Army Corps of Engineers and the Sacramento Area Flood Control Agency (SAFCA) are in the process of implementing a flood control improvement project that will require, among other things, removal of the Line so that the current Sacramento Weir can be widened. (Pet. 2-3.) Sierra states that it will convey its property interest in the Line to SAFCA soon after consummating the abandonment, and SAFCA will use that property to implement the flood control project. (Id. at 11.) Sierra states that there are currently seven customers that it serves via the Line, three of which receive rail service directly at their facilities in Woodland, Cal., and four of which use Sierra's facilities for car storage or car repair operations. Sierra states that the three customers that receive direct rail service have indicated that they plan to use trucks as an alternative to rail service, while the other customers will carry out their storage and repair operations elsewhere. (Id. at 6.)

¹ According to Sierra, the Sacramento Weir is a structure that acts as a flood safety valve, allowing excess flood waters to spill out of the adjacent river system and away from the populated areas of Sacramento and West Sacramento. The Weir also reduces the pressure on the levee system below the Weir. (Pet. 4.)

In addition to an exemption from the provisions of 49 U.S.C. 10903, Sierra also seeks an exemption from the offer of financial assistance (OFA) procedures of 49 U.S.C. 10904 and the public use provisions of 49 U.S.C. 10905, and waivers of corresponding regulations, as well as waiver of the interim trail use regulations at 49 CFR 1152.29. In support, Sierra states that the right-of-way for the Line is needed for a valid public purpose, i.e., the flood control project, and there is no overriding need for continued rail service, as all customers have transportation alternatives. (Pet. 11-12.) According to Sierra, subjecting this abandonment transaction to conditions for offers of financial assistance, public use, or interim trail use would defeat the purpose of this petition. This request will be addressed in the final decision.

According to Sierra, the Line does not contain any federally granted rights-of-way. Any documentation in Sierra's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by July 7, 2020.

Any offer of financial assistance (OFA) under 49 CFR 1152.27(b)(2) will be due no later than 120 days after the filing of the petition for exemption, or 10 days after service of a decision granting the petition for exemption, whichever occurs sooner. Persons interested in submitting an OFA must first file a formal expression of intent to file an offer by April 20, 2020, indicating the type of financial assistance they wish to provide (i.e., subsidy or purchase) and demonstrating that they are preliminarily financially responsible. See 49 CFR 1152.27(c)(1)(i).

Following authorization for abandonment, the Line may be suitable for other public use, including interim trail use. Any request for a public use condition under 49 CFR 1152.28 or for interim trail use/rail banking under 49 CFR 1152.29 will be due no later than April 28, 2020.²

² Filing fees for OFAs and trail use requests can be found at 49 CFR 1002.2(f)(25) and (27), respectively.

All pleadings, referring to Docket No. AB 874 (Sub-No. 1X), must be filed with the Surface Transportation Board either via e-filing or in writing addressed to 395 E Street SW, Washington, DC 20423-0001. In addition, a copy of each pleading must be served on Sierra's representative, Anthony J. LaRocca, Steptoe & Johnson LLP, 1330 Connecticut Ave. NW, Washington, DC 20036. Replies to this petition are due on or before April 28, 2020.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: April 2, 2020.
By the Board, Allison C. Davis, Director, Office of Proceedings.
Brendetta Jones,
Clearance Clerk.

[FR Doc. 2020-07330 Filed 4-7-20; 8:45 am]

BILLING CODE 4915-01-P